DEPARTMENT OF ENERGY

Federal Energy Regulatory Commission

[Docket No. EC98-40-003, et al.]

American Electric Power Company, et al.; Electric Rate and Corporate Filings

July 22, 2003

The following filings have been made with the Commission. The filings are listed in ascending order within each docket classification.

1. American Electric Power Company

[Docket Nos. EC98-40-003, ER98-2770-004, and ER98-2786-004]

Take notice that on July 17, 2003, the Market Monitor filed Market Monitoring of American Electric Power: Twelfth Quarterly Report to Federal Energy Regulatory Commission.

Comment Date: August 7, 2003.

2. The Clark Fork and Blackfoot, LLC

[Docket No. EG03-83-000]

Take notice that on July 18, 2003, The Clark Fork and Blackfoot, LLC (CFB) filed with the Federal Energy Regulatory Commission (Commission) an application for determination of exempt wholesale generator status pursuant to part 365 of the Commission's regulations.

The (CFB) states that it owns and operates a hydroelectric facility with a total capacity of 3 MW, known as the Milltown Dam Facility (located near Missoula, Montana).

Comment Date: August 12, 2003.

3. PPL Electric Utilities Corporation

[Docket No. ER00-1712-003]

Take notice that on July 17, 2003, PPL Electric Utilities Corporation filed with the Federal Energy Regulatory Commission (Commission) an updated market power analysis pursuant to the Commission's order in Pennsylvania Power & Light Company, 80 FERC ¶ 61,053.

PPL Electric Utilities Corporation states it has served a copy of this filing on the parties on the Commission's service list in Docket No. ER97-3055-000.

Comment Date: August 7, 2003.

4. California Independent System Operator Corporation

[Docket No. ER03-683-003]

Take notice that on July 18, 2003, the California Independent System Operator Corporation (ISO) submitted an addendum to its filing in Docket No. ER03-683-002 made on June 20, 2003 filing in compliance with the Commission's May 30, 2003 Order issued in Docket No. ER03-683-000, 103 FERC ¶ 61,265. The ISO states it has served copies of this filing upon all entities that are on the official service list for this proceeding.

Comment Date: August 8, 2003.

5. Mid American Energy Company

[Docket No. ER03-825-001]

Take notice that on July 17, 2003, MidAmerican Energy Company (MidAmerican), filed an amendment to its May 7, 2003 filing in Docket No. ER03-825-000 concerning a Construction and Expense Reimbursement Agreement with the City of Ames, Iowa (Ames) dated April 30, 2003.

MidAmerican requests an effective date of May 8, 2003, for the Agreement with Ames, and accordingly seeks a waiver of the Commission's notice requirement. MidAmerican states it has served a copy of the filing on Ames, the Iowa Utilities Board, the Illinois Commerce Commission and the South Dakota Public Utilities Commission.

Comment Date: August 7, 2003.

6. Salko Energy Services, Inc.

[Docket No. ER03-1063-000]

Take notice that on July 14, 2003, Salko Energy Services, Inc., filed a Notice of Cancellation of its market based rate tariff. Salko Energy Services, Inc., states that it was dissolved effective December 31, 200, and has not entered into any contracts to sell power.

Comment Date: August 1, 2003.

7. National Power Marketing Company, LLC

[Docket No. ER03-1073-000]

Take notice that on July 10, 2003, National Power Marketing Company, LLC, (National) filed a Notice of Cancellation of its market-based rate tariff to be effective January 1, 2002. National states that it has not used its market-based rate authority and does not foresee entering into any contracts to sell power.

Comment Date: August 1, 2003.

8. Midwest Independent Transmission System Operator, Inc.

[Docket No. ER03-1081-000]

Take notice that on July 17, 2003, the Midwest Independent Transmission System Operator, Inc. (Midwest ISO) pursuant to section 205 of the Federal Power Act and Section 35.12 of the Commissions' regulations, 18 CFR 35.12, submitted for filing an unexecuted Interconnection and Operating Agreement among Otter Tail Power Company, FPL Energy North Dakota Wind II and the Midwest Independent Transmission System Operator, Inc.

Midwest ISO states that a copy of this filing was served on Otter Tail Power Company and FPL Energy Hancock County Wind, LLC.

Comment Date: August 7, 2003.

9. Southern California Edison Company

[Docket No. ER03-1082-000]

Take notice that on July 17, 2003, Southern California Edison Company (SCE) tendered for filing a Service Agreement for Wholesale Distribution Service under SCE's Wholesale Distribution Access Tariff and an Interconnection Facilities Agreement (Agreements) between SCE and WM Energy Solutions, Inc. (WMES). SCE respectfully requests the Agreements become effective on July 8, 2003.

WMES states that it intends to develop the Simi Valley Landfill Energy Project, a 2.7 MW gas engine generating facility to be located at 2801 North Madera Road in Simi Valley, California (Simi Valley Landfill Energy Project). WMES also states that these Agreements specify the terms and conditions under which SCE will interconnect the Simi Valley Landfill Energy Project to its electrical system and provide wholesale Distribution Service for up to 2.56 MW of power produced by the Project.

SCE states that copies of this filing were served upon the Public Utilities Commission of the State of California and WMES.

Comment Date: August 7, 2003.

10. Southern California Edison Company

[Docket No. ER03-1083-000]

Take notice that on July 17, 2003, Southern California Edison Company (SCE) tendered for filing revised rate sheets (Revised Sheets) to the Service Agreement between SCE and the City of Colton, under the Wholesale Distribution Access Tariff, FERC Electric Tariff, Original Volume No.5. SCE states that the Revised Sheets reflect a four month extension of the Service Agreement.

SCE requests an effective date of July 18, 2003. SCE states that copies of this filing were served upon the Public Utilities Commission of the State of California and the City of Colton.

Comment Date: August 7, 2003.

11. Aurora Power Resources, Inc.

[Docket No. ER03-1084-000]

Take notice that on July 17, 2003, Aurora Power Resources, Inc., (Aurora), tendered for filing a Notice of Cancellation of its Market-based rate tariff to the effective April 24, 2003. Aurora states that it is not currently selling energy, nor does it have any future plans to do so.

Comment Date: August 7, 2003.

12. PJM Interconnection, L.L.C.

[Docket No. ER03-1086-000]

Take notice that on July 17, 2003, PJM Interconnection, L.L.C. (PJM) submitted revisions to the PJM Open Access Transmission Tariff (Tariff) and the Amended and Restated Operating Agreement of PJM Interconnection, L.L.C. (Operating Agreement) to expand and clarify the provisions in PJM's market rules pertaining to lost opportunity cost compensation to generators.

PJM requests waiver of Section 35.3 of the Commission's regulations (18 CFR 35.3) to permit an effective date of July 18, 2003 for the proposed revisions. PJM states that copies of the filing were served on all PJM members and on the utility regulatory commissions in the PJM region.

Comment Date: August 7, 2003.

13. AES Mohave, LLC

[Docket No. ER03-1087-000]

Take notice that, on July 17, 2003, AES Mohave, LLC (AES Mohave) filed a Notice of Cancellation of its FERC Electric Tariff, Original Volume No. 1. AES Mohave requests that this Notice of Cancellation be effective as of July 17, 2003.

AES Mohave states that a copy of the Notice of Cancellation has been sent to Nevada Power Company.

Comment Date: August 7, 2003.

14. Direct Energy Marketing Inc.

[Docket No. ER03-1088-000]

Take notice that on July 17, 2003, Direct Energy Marketing Inc. (DEMI) tendered for filing an application for authority to sell electric energy, capacity and certain ancillary services at market-based rates under section 205(a) of the Federal Power Act, 16 U.S.C.824d(a), and accompanying requests for certain blanket approvals and for the waiver of certain Commission regulations. DEMI also seeks authorization to reassign any transmission rights it may obtain. DEMI requests that the Commission accept its FERC Electric Tariff, Original Volume No. 1 for filing.

Comment Date: August 7, 2003.

15. New England Power Pool

[Docket No. ER03-1089-000]

Take notice that on July 18, 2003, the New England Power Pool (NEPOOL) submitted the Ninety-Seventh Agreement Amending New England Power Pool Agreement, which NEPOOL states updates and corrects certain information in section 25D of the Restated NEPOOL Open Access Transmission Tariff (the NEPOOL Tariff) and in Attachments G and G-1 and the accompanying Addendum (collectively, Attachment G) of the NEPOOL Tariff. NEPOOL has requested a September 15, 2003 effective date for these changes.

NEPOOL states that copies of these materials were sent to the NEPOOL Participants, Non-Participant Transmission Customers and the New England state governors and regulatory commissions.

Comment Date: August 8, 2003.

16. California Independent System Operator Corporation

[Docket No. ER03-1090-000]

Take notice that on July 18, 2003, the California Independent System Operator Corporation (ISO), tendered for filing a Participating Generator Agreement between the ISO and Energia Azteca X, S. de R.L. de C.V. (EAX) for acceptance by the Commission.

The ISO is requesting waiver of the 60-day notice requirement to allow the Participating Generator Agreement to be made effective July 15, 2003.The ISO states that this filing has been served on EAX and the California Public Utilities Commission.

Comment Date: August 8, 2003.

17. The Potomac Edison Company

[Docket No. ER03-1092-000]

Take notice that on July 18, 2003, Allegheny Energy Service Corporation on behalf of The Potomac Edison Company, doing business as Allegheny Power, tendered for filing pursuant to the Federal Energy Regulatory Commission's regulations, 18 CFR 35.15, a Notice of Termination of The Potomac Edison Company, Rate Schedule FERC Nos. 56 through 59 consisting of Power Service Agreements with the City of Hagerstown and the Towns of Thurmont, Front Royal and Williamsport, respectively. The Agreements terminated by their own terms effective 11:59 p.m. on June 30, 2003.

The Potomac Edison Company states that copies of the filing have been provided to each jurisdictional customer and their counsel of record, the Maryland Public Service Commission and the Virginia State Corporation Commission.

Comment Date: August 8, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-19381 Filed 7-30-03; 8:45 am]

BILLING CODE 6717-01-P